DEPARTMENT OF THE TREASURY

Office of Foreign Assets Control

31 CFR Parts 542, 544, 561, 594, and 597

Publication of Syrian Sanctions Regulations Web General License 25

AGENCY: Office of Foreign Assets Control, Treasury.

ACTION: Publication of a web general license.

SUMMARY: The Department of the Treasury's Office of Foreign Assets Control (OFAC) is publishing a general license (GL) issued pursuant to multiple regulations, including the Syrian Sanctions Regulations: GL 25. This GL was previously made available on OFAC's website.

DATES: GL 25 was issued on May 23, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov/.

Background

On May 23, 2025, OFAC issued GL 25 to authorize certain transactions otherwise prohibited by the Syrian Sanctions Regulations, 31 CFR part 542; the Weapons of Mass Destruction Proliferators Sanctions Regulations, 31 CFR part 544; the Iranian Financial Sanctions Regulations, 31 CFR part 561; the Global Terrorism Sanctions Regulations, 31 CFR part 594; the Foreign Terrorist Organizations Sanctions Regulations, 31 CFR part 597; and Executive Order 13574 of May 23, 2011, “Authorizing the Implementation of Certain Sanctions Set Forth in the Iran Sanctions Act of 1996, as Amended” (76 FR 30505, May 25, 2011). The GL was made available on OFAC's website (https://ofac.treasury.gov/) when it was issued. The text of this GL is provided below.

OFFICE OF FOREIGN ASSETS CONTROL

Syrian Sanctions Regulations

31 CFR Part 542

Weapons of Mass Destruction Proliferators Sanctions Regulations

31 CFR Part 544

Iranian Financial Sanctions Regulations

31 CFR Part 561

Global Terrorism Sanctions Regulations

31 CFR Part 594

Foreign Terrorist Organizations Sanctions Regulations

31 CFR Part 597

Executive Order 13574 of May 23, 2011

Authorizing the Implementation of Certain Sanctions Set Forth in the Iran Sanctions Act of 1996, as Amended

GENERAL LICENSE NO. 25

Authorizing Transactions Prohibited by the Syrian Sanctions Regulations or Involving Certain Blocked Persons

(a) Except as provided in paragraph (c) of this general license, all transactions prohibited by the Syrian Sanctions Regulations, 31 CFR part 542 (SySR), other than transactions involving blocked persons, are authorized.

(b) Except as provided in paragraph (c) of this general license, all transactions that are prohibited by the SySR, the Weapons of Mass Destruction Proliferators Sanctions Regulations, 31 CFR part 544, the Iranian Financial Sanctions Regulations, 31 CFR part 561, the Global Terrorism Sanctions Regulations, 31 CFR part 594, the Foreign Terrorist Organizations Sanctions Regulations, 31 CFR part 597, or Executive Order 13574 involving the following blocked persons are authorized:

(1) the Government of Syria, as defined by 31 CFR 542.308, as in existence on or after May 13, 2025;

(2) any blocked person listed in the Annex to this general license; or

(3) any entity in which one or more of the blocked persons listed in the Annex own, directly or indirectly, individually or in the aggregate, a 50 percent or greater interest.

Note to paragraph (b)(1). The Government of Syria includes Syrian President Ahmed al-Sharaa and his government.

(c) This general license does not authorize:

(1) Any transactions involving any individual or entity identified on the Office of Foreign Assets Control's List of Specially Designated Nationals and Blocked Persons (SDN) that is not listed in the Annex of this general license, as well as any entity in which one or more of such SDNs own, directly or indirectly, individually or in the aggregate, a 50 percent or greater interest, unless separately authorized;

(2) The unblocking of any property or interests in property blocked pursuant to any part of 31 CFR chapter V as of May 22, 2025; or

(3) Any transactions for or on behalf of the Government of the Russian Federation, the Government of Iran, the Government of the Democratic People's Republic of Korea (DPRK), or related to the transfer or provision of goods, technology, software, funds, financing, or services to or from Iran, Russia, or the DPRK.

Note to General License No. 25. Nothing in this general license relieves any person from compliance with any other Federal laws or requirements of other Federal agencies, including the International Traffic in Arms Regulations (ITAR) administered by the Department of State and the Export Administration Regulations (EAR) administered by the Department of Commerce.

Dated: May 23, 2025.

Lisa M. Palluconi,

Acting Director, Office of Foreign Assets Control.

Annex—Blocked Persons Described in Paragraph (b)(2) of General License 25

List of Blocked Persons Described in Paragraph (b)(2) of General License 25 as of May 23, 2025:

Blocked Person

SYRIAN ARAB AIRLINES

SYTROL

AL-JAWLANI, Abu Muhammad

KHATTAB, Anas Hasan

COMMERCIAL BANK OF SYRIA

CENTRAL BANK OF SYRIA

GENERAL PETROLEUM CORPORATION

SYRIAN COMPANY FOR OIL TRANSPORT

SYRIAN GAS COMPANY

SYRIAN PETROLEUM COMPANY

REAL ESTATE BANK

GENERAL ORGANIZATION OF RADIO AND TV

BANIAS REFINERY COMPANY

HOMS REFINERY COMPANY

AGRICULTURAL COOPERATIVE BANK

INDUSTRIAL BANK

POPULAR CREDIT BANK

SAVING BANK

GENERAL DIRECTORATE OF SYRIAN PORTS

LATTAKIA PORT GENERAL COMPANY

SYRIAN CHAMBER OF SHIPPING

SYRIAN GENERAL AUTHORITY FOR MARITIME TRANSPORT

SYRIAN SHIPPING AGENCIES COMPANY

TARTOUS PORT GENERAL COMPANY

PUBLIC ESTABLISHMENT FOR REFINING AND DISTRIBUTION

SYRIAN MINISTRY OF PETROLEUM AND MINERAL RESOURCES

SYRIAN MINISTRY OF TOURISM

FOUR SEASONS DAMASCUS

Bradley T. Smith,
Director, Office of Foreign Assets Control.

[FR Doc. 2025-15346 Filed 8-12-25; 8:45 am]

BILLING CODE 4810-AL-P